DEPARTMENT OF TRANSPORTATION

Federal Aviation Administration

14 CFR Part 39

[Docket No. FAA-2008-0048; Directorate Identifier 2007-NM-276-AD]

RIN 2120-AA64

Airworthiness Directives; Airbus Model A310 and A300-600 Series Airplanes

AGENCY: Federal Aviation Administration (FAA), DOT.

ACTION: Notice of proposed rulemaking (NPRM).

SUMMARY: We propose to adopt a new airworthiness directive (AD) for the products listed above that would supersede an existing AD. This proposed AD results from mandatory continuing airworthiness information (MCAI) originated by an aviation authority of another country to identify and correct an unsafe condition on an aviation product. The MCAI describes the unsafe condition as:

Based on some recent in-service findings for fluid ingress and/or inner skin disbond damage on rudders, AIRBUS decided to introduce some further structural inspections to specific rudder areas. This type of damage could result in reduced structural integrity of the rudder.

* * * * *

The proposed AD would require actions that are intended to address the unsafe condition described in the MCAI.

DATES: We must receive comments on this proposed AD by February 21, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Stafford, Aerospace Engineer, International Branch, ANM-116, Transport Airplane Directorate, FAA, 1601 Lind Avenue, SW., Renton, Washington 98057-3356; telephone (425) 227-1622; fax (425) 227-1149.

SUPPLEMENTARY INFORMATION:

Comments Invited

We invite you to send any written relevant data, views, or arguments about this proposed AD. Send your comments to an address listed under the ADDRESSES section. Include “Docket No. FAA-2008-0048; Directorate Identifier 2007-NM-276-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 24, 2006, we issued AD 2006-07-13, Amendment 39-14540 (71 FR 16030, March 30, 2006), to require one-time inspections of the rudder for discrepancies, and corrective action if necessary. That AD required actions intended to address an unsafe condition on the products listed above.

Since we issued AD 2006-07-13, the European Aviation Safety Agency (EASA), which is the Technical Agent for the Member States of the European Community, has issued EASA Airworthiness Directive 2007-0266, dated October 8, 2007 (referred to after this as “the MCAI”), to correct an unsafe condition for the specified products. The MCAI states:

Based on some recent in-service findings for fluid ingress and/or inner skin disbond damage on rudders, AIRBUS decided to introduce some further structural inspections to specific rudder areas. This type of damage could result in reduced structural integrity of the rudder.

For the reasons stated above, this AD requires the accomplishment of a thorough inspection program [a one-time inspection and repetitive inspections for damage of the rudder] by ultrasonic and/or t[h]ermographic methods, compared to the inspections already required by Airworthiness Directive (AD) 2006-0066, issued on 24 March 2006 [which corresponds to FAA AD 2006-07-13] as a precautionary measure, in order to verify the structural integrity of the rudder.

* * * * *

The corrective actions include reporting both positive and negative findings to Airbus, doing a temporary repair, and contacting Airbus for repair instructions and doing a permanent repair. The compliance times for doing the repairs range from before further flight to within 4,500 flight cycles after doing the inspection, depending on the inspection type and the configuration of the airplane. The repetitive inspection intervals range from 1,200 flight cycles to 5,000 flight cycles, depending on the inspection type and the configuration of the airplane. You may obtain further information by examining the MCAI in the AD docket.

Relevant Service Information

Airbus has issued the following service bulletins:

• A300-55-6043, Revision 01, dated December 3, 2007

• A300-55-6044, Revision 01, dated December 20, 2007

• A310-55-2044, Revision 01, dated December 3, 2007

• A310-55-2045, Revision 01, dated December 20, 2007

The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 123 products of U.S. registry. We also estimate that it would take about 22 work-hours per product to comply with the basic requirements of this proposed AD. The average labor rate is $80 per work-hour. Based on these figures, we estimate the cost of the proposed AD on U.S. operators to be $216,480, or $1,760 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14540 (71 FR 16030, March 30, 2006) and adding the following new AD:

Airbus: Docket No. FAA-2008-0048; Directorate Identifier 2007-NM-276-AD.

Comments Due Date

(a) We must receive comments by February 21, 2008.

Affected ADs

(b) The proposed AD supersedes AD 2006-07-13, Amendment 39-14540.

Applicability

(c) This AD applies to AIRBUS Model A310 and A300-600 series airplanes, certificated in any category, all certified models, all serial numbers, on which rudder Part Number (P/N) A55471500 series is fitted, except for those airplanes on which AIRBUS modification number 08827 has been incorporated in production.

Subject

(d) Air Transport Association (ATA) of America Code 55: Stabilizers.

Reason

(e) The mandatory continuing airworthiness information (MCAI) states:

Based on some recent in-service findings for fluid ingress and/or inner skin disbond damage on rudders, AIRBUS decided to introduce some further structural inspections to specific rudder areas. This type of damage could result in reduced structural integrity of the rudder.

For the reasons stated above, this AD requires the accomplishment of a thorough inspection program [a one-time inspection and repetitive inspections for damage of the rudder] by ultrasonic and/or t[h]ermographic methods, compared to the inspections already required by Airworthiness Directive (AD) 2006-0066, issued on 24 March 2006 [which corresponds to FAA AD 2006-07-13] as a precautionary measure, in order to verify the structural integrity of the rudder.

* * * * *

The corrective actions include reporting both positive and negative findings to Airbus, doing a temporary repair, and contacting Airbus for repair and doing a permanent repair.

Actions and Compliance

(f) Unless already done, do the following actions.

(1) Within 500 flight cycles or 6 months after the effective date of this AD, whichever occurs first, perform a special detailed one-time inspection in the areas of rudder hoisting points and trailing edge screws, in accordance with the instructions given in Airbus Service Bulletin A310-55-2045 or A300-55-6044, both Revision 01, both dated December 20, 2007, as applicable.

(i) If no damage is found, within 30 days after the inspection or 30 days after the effective date of this AD, whichever occurs later, report to Airbus using Appendix 1 or 2, as applicable to the airplane configuration, of Airbus Service Bulletin A310-55-2045 or A300-55-6044, both Revision 01, as applicable.

(ii) If any damage is found, within the timescale(s) indicated in Airbus Service Bulletin A310-55-2045 or A300-55-6044, both Revision 01, as applicable, report to Airbus using Appendix 1 or 2, as applicable to the airplane configuration, of Airbus Service Bulletin A310-55-2045 or A300-55-6044, both Revision 01, as applicable, to get further instructions for repair. Accomplish the repair within the timescale(s) indicated in, and in accordance with the instructions given in paragraph 3.B.(1)(a) or 3.B.(2)(a), as applicable to the airplane configuration, of Airbus Service Bulletin A310-55-2045 or A300-55-6044, both Revision 01, as applicable.

(2) Within 500 flight cycles or 6 months after the effective date of this AD, whichever occurs first, perform a special detailed inspection along the rudder Z-profile, in accordance with the instructions given in Airbus Service Bulletin A310-55-2044 or A300-55-6043, both Revision 01, both dated December 3, 2007, as applicable. For airplanes identified as configuration 01 in the service bulletins, repeat the inspection thereafter at intervals not to exceed 1,400 flight cycles. For airplanes identified as Configuration 02 in the service bulletins, repeat the inspection thereafter at intervals not to exceed 5,000 flight cycles. For temporary repair along the rudder Z-profile for both airplanes identified as configuration 01 and 02, refer to paragraph 3.C.(1) of Airbus Service Bulletin A310-55-2044 or A300-55-6043, both Revision 01, as applicable.

(i) If no damage is found, within 30 days after the inspection or 30 days after the effective date of this AD, whichever occurs later, report to AIRBUS using Appendix 1 or 2, as applicable to the airplane configuration, of Airbus Service Bulletin A310-55-2044 or A300-55-6043, both Revision 01, as applicable.

(ii) If any damage is found, verify the findings and apply all applicable corrective actions within the timescale(s) indicated in, and in accordance with instructions given in paragraph 3.B.(1)(a) or 3.B.(2)(a), as applicable to the airplane configuration, of Airbus Service Bulletin A310-55-2044 or A300-55-6043, both Revision 01, as applicable. Within 30 days after the inspection or corrective action or 30 days after the effective date of this AD, whichever occurs later, submit a report to Airbus using Appendix 1 or 2, as applicable to the airplane configuration, of Airbus Service Bulletin A310-55-2044 or A300-55-6043, both Revision 01, as applicable.

Note 1: For rudder configuration identification, refer to Appendices 3 and 4 of Airbus Service Bulletin A310-55-2044, A310-55-2045, A300-55-6043, and A300-55-6044, as applicable to the airplane model and configuration.

(3) As of 30 days after the effective date of this AD: No person shall install a P/N A55471500 series rudder on any airplane as a replacement, unless it has been inspected and repaired, as applicable, in accordance with the instructions of Airbus Service Bulletins A310-55-2045, Revision 01, dated December 20, 2007, and A310-55-2044, Revision 01, dated December 3, 2007; or Airbus Service Bulletins A300-55-6044, Revision 01, dated December 20, 2007, and A300-55-6043, Revision 01, dated December 3, 2007; as applicable.

(4) Actions accomplished before the effective date of this AD in accordance with Airbus Service Bulletin A300-55-6044 or A310-55-2045, both dated July 23, 2007, are considered acceptable for compliance with the corresponding actions specified in paragraph (f)(1) of this AD.

(5) Actions accomplished before the effective date of this AD in accordance with Airbus Service Bulletin A300-55-6043 or A310-55-2044, both dated July 23, 2007, are considered acceptable for compliance with the corresponding actions specified in paragraph (f)(2) of this AD.

FAA AD Differences

Note 2: This AD differs from the MCAI and/or service information as follows: No differences.

Other FAA AD Provisions

(g) The following provisions also apply to this AD:

(1) Alternative Methods of Compliance (AMOCs): The Manager, International Branch, ANM-116, Transport Airplane Directorate, FAA, has the authority to approve AMOCs for this AD, if requested using the procedures found in 14 CFR 39.19. Send information to ATTN: Tom Stafford, Aerospace Engineer, International Branch, ANM-116, Transport Airplane Directorate, FAA, 1601 Lind Avenue SW., Renton, Washington 98057-3356; telephone (425) 227-1622; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI EASA Airworthiness Directive 2007-0266, dated October 8, 2007, and the service bulletins listed in Table 1 of this AD, for related information.

Table 1.—Airbus Service Information
Airbus Service Bulletin | Revision | Date
A300-55-6043 | 01 | December 3, 2007.
A300-55-6044 | 01 | December 20, 2007.
A310-55-2044 | 01 | December 3, 2007.
A310-55-2045 | 01 | December 20, 2007.

Issued in Renton, Washington, on January 15, 2008.
Stephen P. Boyd,
Assistant Manager, Transport Airplane Directorate, Aircraft Certification Service.

[FR Doc. E8-977 Filed 1-18-08; 8:45 am]

BILLING CODE 4910-13-P